DEPARTMENT OF THE TREASURY

Submission for OMB Review; Comment Request

October 6, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 20, 2000 to be assured of consideration.

Departmental Offices/Community Development Financial Institutional (CDFI) Fund

OMB Number: New collection.

Form Number: CDFI 0016.

Type of Review: New collection.

Title: Conflict of Interest Package for Community Development Financial Institutional (CDFI) Fund Non-Federal Readers.

Description: The CDFI Fund seeks to collect information from potential contractors to identify, evaluate, and avoid significant potential conflicts of interest early in the acquisition process. Respondents selected as contractors will evaluate applications for Federal financial assistance under the Community Development Financial Institutions Program. Respondents are predominantly individuals who are experts in the field of community development.

Respondents: Individuals or households, Business or other for-profit, Not-for-profit institutions.

Estimated Number of Respondents: 80.

Estimated Burden Hours Per Respondent: 45 minutes.

Frequency of Response: On occasion.

Estimated Total Reporting Burden: 60 hours.

Clearance Officer: Lois K. Holland (202) 622-1563, Departmental Offices, Room 2110, 1425 New York Avenue, N.W., Washington, DC 20220.

OMB Reviewer: Alexander T. Hunt (202) 395-7860, Office of Management and Budget, Room 10202, New Executive Office Building, Washington, DC 20503.

Lois K. Holland,
Departmental Reports, Management Officer.

[FR Doc. 00-26795 Filed 10-18-00; 8:45 am]

BILLING CODE 4810-25-P